DEPARTMENT OF COMMERCE

Census Bureau

Proposed Information Collection; Comment Request: Field Representative/Decennial Field Staff Exit Questionnaire

AGENCY: U.S. Census Bureau, Department of Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before November 1, 2011.

ADDRESSES: Direct all written comments to Diana Hynek, Departmental Paperwork Clearance Officer, Department of Commerce, Room 6616, 14th and Constitution Avenue, NW., Washington, DC 20230 (or via the Internet at dhynek@doc.gov).

FOR FURTHER INFORMATION CONTACT: Requests for additional information or copies of the information collection instrument(s) and instructions should be directed to Darlene Moul, Census Bureau/Field Division, Room 5H051, Washington, DC 20233, or 301-763-1935, or via the Internet at darlene.a.moul@census.gov.

SUPPLEMENTARY INFORMATION:

I. Abstract

Because of both the monetary costs associated with turnover and the potential impact on data quality, the retention of trained field interviewing staff is a major concern for the Census Bureau. In a continuous effort to devise policies and practices aimed at reducing turnover among interviewers, the Census Bureau collects data on the reasons interviewers voluntarily quit their jobs with the Census Bureau. The BC-1294, Field Representative Exit Questionnaire, is the instrument used to collect this data from a sample of former current survey interviewers.

The BC-1294 asks questions about the factors that affected an interviewer's decision to voluntarily leave Census Bureau employment. The goal or purpose of the exit questionnaire is to identify the reasons for interviewer turnover and determine what the Census Bureau might have done, or can do, to influence interviewers not to leave their jobs. The exit questionnaire seeks reasons interviewers quit, inquires about motivational factors that would have kept the interviewers from leaving, identifies training program strengths and areas for improvement, and explores the impact of automation and the influence of pay and other working conditions on turnover.

As the environment in which surveys take place, the nature of surveys conducted, and the characteristics of our labor force continue to change, it is important that we continue to examine the interviewers' concerns about their former job as Census Bureau interviewers. Information obtained from the exit survey has provided insight on the measures the Census Bureau might take to decrease turnover, and has been useful in helping to determine if the reasons for interviewer turnover appear to be systemic and/or localized. From the BC-1294, we have learned that interviewer turnover is often a combination of reasons rather than one single reason. We have also learned that there are some reasons for turnover within the Census Bureau's control and some which are not.

The data we have collected from former current survey field representatives has helped the Census Bureau develop plans to reduce turnover. Results from prior versions of the exit survey have allowed for better informed management decisions regarding the future field work force and the implementation of more effective recruitment, pay plans, interviewer training, and retention strategies. The BC-1294, Field Representative Exit Questionnaire, has proven to be very useful and we want to continue to use it.

Since our last clearance, our current survey interviewers have been given new tools (e.g., a GPS and mapping software) to help them work more effectively and efficiently. In addition, the Census Bureau implemented a new current survey selection process designed to improve recruiting and retention. We plan to incorporate questions into the BC-1294 to ask former employees what, if any, impact these program changes had on their decision to leave their Census Bureau job.

Plans for the current 2020 inter-decade testing have not been finalized at this time. We do not anticipate any large scale field site tests involving the use of the BC-1294(D), Decennial Field Staff Exit Questionnaire or the BC-1294(CM), Coverage Measurement Exit Questionnaire during the upcoming three years.

II. Method of Collection

The exit questionnaire will be administered by telephone. While the use of automated collection techniques have been considered, a telephone methodology is employed due to the nature of the questions, which may require probing to obtain or clarify answers. In addition, a telephone methodology has historically yielded response rates that are greater than those obtained from similar mail out/mail back methodologies, especially when the collection interval is relatively short and the audience is former employees.

A sample of former employees will be called and asked a series of questions about when and why they voluntarily quit their job. The sample will not include interviewers who have been terminated for cause.

III. Data

OMB Control Number: 0607-0404.

Form Number: BC-1294.

Type of Review: Regular submission.

Affected Public: Former Census Bureau Current Survey Field Representatives.

Estimated Number of Respondents: 500.

Estimated Time per Response: Seven (7) minutes.

Estimated Total Annual Burden Hours: 58.

Estimated Total Annual Cost: There is no cost to the respondents except for their time.

Respondent's Obligation: Voluntary.

Legal Authority: Title 5 U.S.C. Section 301, 2301 and 3101.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 30, 2011.
Glenna Mickelson,
Management Analyst, Office of the Chief Information Officer.

[FR Doc. 2011-22533 Filed 9-1-11; 8:45 am]

BILLING CODE 3510-07-P